ENVIRONMENTAL PROTECTION AGENCY

[ER-FRL-6684-1]

Environmental Impacts Statements; Notice of Availability

Responsible Agency: Office of Federal Activities, General Information (202) 564-7167 or

http://www.epa.gov/compliance/nepa/ Weekly receipt of Environmental Impact Statements Filed 02/05/2007 through 02/09/2007 Pursuant to 40 CFR 1506.9.

EIS No. 20070038, Draft EIS, BLM, WY, Pinedale Resource Management Plan (RMP), Implementation of Public Lands Administered, Sublette and Lincoln Counties, WY, Comment Period Ends: 05/17/2007, Contact: Kellie Roadifer 307-367-5309.

EIS No. 20070039, Draft EIS, WPA, CA, Trinity Public Utilities District Direct Interconnection Project, Construct and Operate a 16-mile Long 60-Kilovolt Power Transmission Facilities, (DOE/EIS-0389, Trinity County, CA, Comment Period Ends: 04/02/2007, Contact: Mark Wieringa 7200-962-7448.

EIS No. 20070040, Final EIS, DOD, 00, Programmatic—Missile Defense Agency, To Incrementally Develop, Test, Deploy, and Plan for Decommissioning of the Ballistic Missile Defense System (BMDS), Wait Period Ends: 03/19/2007, Contact: Martin Duke 703-697-4248.

EIS No. 20070041, Draft EIS, AFS, OR, Five Buttes Project, Conduct Vegetation Management Activities, Implementation, Deschutes National Forest, Cresent Ranger District, Deschutes County, OR, Comment Period Ends: 04/02/2007, Contact: Marcy Boehme 541-433-3200.

EIS No. 20070042, Draft EIS, BLM, CA, Truckhaven Geothermal Leasing Area, Addresses Leasing of Geothermal Resources, El Centro Field Office, Imperial County, CA, Comment Period Ends: 04/17/2007, Contact: John Dalton 951-697-5311.

EIS No. 20070043, Final EIS, AFS, CA, Commercial Park Stock Permit Reissuance for the Sierra National Forest and Trail Management Plan for the Dinkey Lakes Wilderness, Application Reissuance Special-Use-Permit, Mariposa, Madera and Fresno Counties, CA, Wait Period Ends: 03/19/2007 Contact: Kim-Sorini-Wilson 559-855-5355 Ext. 3328.

EIS No. 20070044, Draft EIS, AFS, NM, Surface Management of Gas Leasing and Development, Proposes to Amend the Forest Plan include Standard and Guidelines Related to Gas Leasing and Development in the Jicarilla Ranger District, Carson National Forest, Rio Arriba County, NM, Comment Period Ends: 04/02/2007, Contact: Audrey Kuykendall 505-758-6212.

EIS No. 20070045, Final EIS, FHW, UT, Riverdale Road Project (UT-26), Improvement Mobility and Safety between 1900 West in Roy, UT and U.S. Highway 89 (Washington Boulevard) in Odgen, UT, Cities of Roy, Riverdale, South Ogden and Ogden, Weber County, UT, Wait Period Ends: 03/19/2007, Contact: Gregory S. Punske 801-963-0182.

EIS No. 20070046, Draft EIS, BLM, CO, Little Snake Resource Management Plan, Implementation, Moffat, Routt and Rio Blanco Counties, Craig CO, Comment Period Ends: 05/17/2007, Contact: Jeremy Casterson 970-826-5071. This document is available on the Internet at: http://www.co.blm.gov/lsra/rmp/rmp-docs.htm#DEIS.

EIS No. 20070047, Draft EIS, COE, MN, Minnesota Steel Project, Construction and Operation of an Open Pit Taconite Mine Facilities, Concentrator, Pellet Plant, Direct Reduced Iron Plant and Steel Mill Project, located west of Nashwauk, Itasca County, MN, Comment Period Ends: 04/02/2007, Contact: Jon K. Ahlness 651-290-5381.

EIS No. 20070048, Draft EIS, NOA, 00, Programmatic—Steller Sea Lion and Northern Fur Seal Research, Proposal to Disburse Fund and Issue Permit for Research, AK, WA, OR and CA, Comment Period Ends: 04/02/2007, Contact: P. Michael Payne 301-713-2289. This document is available on the Internet at: http://www.nmfs.noaa.gov/pr/permits/eis/steller.htm.

EIS No. 20070049, Second Draft Supplement, FTA, CA, South Sacramento Corridor Phase 2, Improve Transit Service and Enhance Regional Connectivity, Funding, in the City and County Sacramento, CA, Comment Period Ends: 04/02/2007, Contact: Jerome Wiggins 415-744-3116.

EIS No. 20070050, Draft EIS, FRC, 00, East Texas to Mississippi Expansion Project, Construction and Operation of 243.3 miles Natural Gas Pipeline to Transport Natural Gas from Production Fields in eastern Texas to Markets in the Gulf Coast, Midwestern, Northeastern and Southeastern United States, Comment Period Ends: 04/02/2007, Contact: Andy Black 1-866-209-3372.

EIS No. 20070051, Draft Supplement, COE, MS, Gulfport Harbor Navigation Channel Project, Updated Information on Providing Safe and Unrestricted Navigation into and out of Gulfport Harbor, Harrison County, MS, Comment Period Ends: 04/02/2007, Contact: Linda T. Brown 251-694-3786.

Dated: February 13, 2007.
Robert W. Hargrove,
Director, NEPA Compliance Division, Office of Federal Activities.

[FR Doc. E7-2733 Filed 2-15-07; 8:45 am]

BILLING CODE 6560-50-P